DEPARTMENT OF AGRICULTURE

Forest Service

Information Collection; Disposal of Mineral Materials

AGENCY: Forest Service, USDA.

ACTION: Notice; request for comment.

SUMMARY: In accordance with the Paperwork Reduction Act of 1995, the Forest Service is seeking comments from all interested individuals and organizations on the extension of a currently approved information collection, Disposal of Mineral Materials.

DATES: Comments must be received in writing on or before October 19, 2020 to be assured of consideration. Comments received after that date will be considered to the extent practicable.

ADDRESSES: Comments concerning this notice should be addressed to Bradford Campbell, Geologist, USDA Forest Service, Minerals and Geology Management, 26 Fort Missoula Road, Missoula, MT 59804.

Comments also may be submitted via facsimile to 303-275-5122 or by email to: bradford.campbell@usda.gov.

The public may inspect comments received at the USDA Forest Service Rocky Mountain Region, Minerals and Geology Management, 1617 Cole Boulevard, Lakewood, CO 80401 during normal business hours.

FOR FURTHER INFORMATION CONTACT: Bradford Campbell, Geologist, Minerals and Geology Management Staff, bradford.campbell@usda.gov or 406-329-3523.

Individuals who use telecommunication devices for the deaf (TDD) may call the Federal Relay Service (FRS) at 1-800-877-8339 twenty-four hours a day, every day of the year, including holidays.

SUPPLEMENTARY INFORMATION: Title: Disposal of Mineral Materials.

OMB Number: 0596-0081.

Expiration Date of Approval: December 31, 2020.

Type of Request: Renewal of a currently approved collection.

Abstract: The Mineral Materials Act of 1947, as amended, and the Multiple Use Mining Act of 1955, as amended, authorize the Secretary of Agriculture to permit disposal of petrified wood and common varieties of sand, stone, gravel, pumice, pumicite, cinders, clay, and other similar materials on lands administered by the USDA Forest Service.

Individuals, organizations, companies, or corporations interested in mining mineral materials on National Forest System lands may contact their local Forest Service office to inquire about mining mineral materials opportunities, to learn about areas on which such activities are permitted, and to request form FS-2800-9 (Contract of Sale for Minerals Materials). Interested parties are asked to provide information that includes the purchaser's name and address, the location and dimensions of the area to be mined, the kind of material that will be mined, the quantity of material to be mined, the sales price of the mined material, the payment schedule, the amount of the bond, and the period of the contract.

The collected information enables the Forest Service to document planned operations, to prescribe the terms and conditions the agency deems necessary to protect surface resources, and to affect a binding contract agreement. Forest Service employees will evaluate the collected information to ensure that entities applying to mine mineral materials are financially accountable and will conduct their activities in accordance with the mineral regulations of Title 36, Code of Federal Regulations, Part 228, Subpart C (36 CFR part 228).

If this information is not collected, the Forest Service would be unable to comply with Federal regulations to mine mineral materials, and operations could cause undue damage to surface resources.

Estimate of Annual Burden: 2.5 hours.

Type of Respondents: Mineral materials operators.

Estimated Annual Number of Respondents: 2,626.

Estimated Annual Number of Responses per Respondent: 1.

Estimated Total Annual Burden on Respondents: 6,565 hours.

Estimated annual number of respondents is based on the average number of respondents in 2014 through 2016. This number is lower than previous renewal estimates, thus the estimated total annual burden on respondents is lower than the most recent renewal.

Comment is invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Jacqueline Emanuel,
Acting Associate Deputy Chief, National Forest System.

[FR Doc. 2020-18194 Filed 8-19-20; 8:45 am]

BILLING CODE 3411-15-P